DEPARTMENT OF DEFENSE

Office of the Secretary

[Docket ID: DOD-2018-OS-0101]

Privacy Act of 1974; System of Records

AGENCY: Office of the Secretary of Defense, DoD.

ACTION: Notice of a modified system of records.

SUMMARY: The Office of the Secretary of Defense (OSD) proposes to modify a System of Records Notice (SORN), Regional Center Persons/Activity Management System (RCPAMS), DSCA 03. This system provides a solution for Regional Center staff to manage operational, logistical and cost details about people, events, enrollments and organizations, a tool for reporting on all data related to Regional Center events, a platform for sharing common processes, terminology and data elements to facilitate efficient communication between the Regional Centers, a single view of each person with whom any of the Regional Centers have a relationship, representing the current snapshot and historical record of events and biographical information, an interface to other systems with which the Regional Centers must exchange data for use by other users and organizations, and an enterprise-class Customer Relationship Management platform to manage two-way communication between Security Assistance Network (SAN) and RCPAMS related to events and their participants.

As a result of reviewing this system of records notice (SORN), this modification updates the following categories: System location, system manager(s), purpose; categories of individuals, categories of records, routine uses, record access procedures, notification procedures, including the reformatting to coincide with the new SORN template defined in the Office of Management and Budget Circular A-108, “Federal Agency Responsibilities for Review, Reporting, and Publication under the Privacy Act.”

DATES: Comments will be accepted on or before January 18, 2019. This proposed action will be effective the date following the end of the comment period unless comments are received which result in a contrary determination.

ADDRESSES: You may submit comments, identified by docket number and title, by any of the following methods:

* Federal Rulemaking Portal: http://www.regulations.gov.

Follow the instructions for submitting comments.

* Mail: Department of Defense, Office of the Chief Management Officer, Directorate of Oversight and Compliance, 4800 Mark Center Drive, Mailbox #24, Suite 08D09, Alexandria, VA 22350-1700.

Instructions: All submissions received must include the agency name and docket number for this Federal Register document. The general policy for comments and other submissions from members of the public is to make these submissions available for public viewing on the internet at http://www.regulations.gov as they are received without change, including any personal identifiers or contact information.

FOR FURTHER INFORMATION CONTACT: Ms. Luz D. Ortiz, Chief, Records, Privacy and Declassification Division (RPDD), 1155 Defense Pentagon, Washington, DC 20301-1155, or by phone at (571) 372-0478.

SUPPLEMENTARY INFORMATION: The OSD proposes to modify a system of records subject to the Privacy Act of 1974, 5 U.S.C. 552a. This notice serves to update the System of Records Notice for RCPAMS, DSCA 03, published in the Federal Register on June 13, 2016, Vol. 81, No. 113.

The Defense Security Cooperation Agency (DSCA) is the executive agent for five Regional Centers which offer through resident and in-region programs various seminars, courses, workshops, alumni outreach events, and research publications. The centers include: Africa Center for Strategic Studies (ACSS), Asia-Pacific Center for Security Studies (APCSS), William J. Perry Center for Hemispheric Defense Studies (CHDS), George C. Marshall European Center for Security Studies (GCMC), and Near-East-South Asia Center for Strategic Studies (NESA). As a result of reviewing this SORN, this modification updates the following categories: System location, system manager(s), categories of records, routine uses, including the reformatting of the SORN to align with the new template provided in OMB Circular A-108, “Federal Agency Responsibilities for Review, Reporting, and Publication under the Privacy Act.”

The OSD notices for systems of records subject to the Privacy Act of 1974 (5 U.S.C. 552a), as amended, have been published in the Federal Register and are available from the address in FOR FURTHER INFORMATION CONTACT or at the Defense Privacy and Civil Liberties Division website at https://defense.gov/privacy.

The proposed system report, as required by U.S.C. 552a(r) of the Privacy Act of 1974, as amended, was submitted on October 11, 2018, to the House Committee on Oversight and Government Reform, the Senate Committee on Governmental Affairs, and the Office of Management and Budget (OMB).

Dated: December 14, 2018.
Aaron T. Siegel,
Alternate OSD Federal Register Liaison Officer, Department of Defense.

SYSTEM NAME AND NUMBER

Regional Center Persons/Activity Management System (RCPAMS), DSCA 03.

SECURITY CLASSIFICATION:

Unclassified.

SYSTEM LOCATION:

CSRA Solutions, 189 Peachtree St. NW, Atlanta GA 30303-1725.

SYSTEM MANAGER(S):

Regional Center Persons/Activity Management Program Manager, Defense Security Cooperation Agency, ATTN: BPC/ICB-RCPAMS, Program Manager, 201 12th Street South, Suite 101, Arlington, VA 22202-4306; Telephone: (703) 697-9709, email: dsca.ncr.lmo.mbx.info@mail.mil.

AUTHORITY FOR MAINTENANCE OF THE SYSTEM:

10 U.S.C. 134, Under Secretary of Defense for Policy; DoD Directive (DoDD) 5105.65, Defense Security Cooperation Agency (DSCA); DoDD 5101.1, DoD Executive Agent; DoDD 5200.41, DoD Regional Centers for Security Studies; and DoDD 5132.03, DoD Policy and Responsibilities Relating to Security Cooperation.

PURPOSE(S) OF THE SYSTEM:

The primary purpose of the Regional Center Persons/Activity Management System (RCPAMS) is to improve management of education opportunities in security cooperation as provided by the Department of Defense through the standardization of business processes across the following five Regional Centers for Security Studies: Africa Center for Strategic Studies (ACSS), Asia-Pacific Center for Security Studies (APCSS), William J. Perry Center for Hemispheric Defense Studies (CHDS), George C. Marshall European Center for Security Studies (GCMC), and Near-East-South Asia Center for Strategic Studies (NESA), collectively Regional Centers. Specifically, RCPAMS will provide: (1) A solution for Regional Center staff to manage operational, logistical and cost details about people, events, enrollments and organizations; (2) a tool for reporting on all data related to Regional Center events; (3) a platform for sharing common processes, terminology and data elements to facilitate efficient communication between the Regional Centers; (4) a single view of each person with whom any of the Regional Centers have a relationship, representing the current snapshot and historical record of events and biographical information; (5) an interface to other systems with which the Regional Centers must exchange data for use by other users and organizations; and (6) an enterprise-class Customer Relationship Management platform to manage two-way communication between Security Assistance Network (SAN) and RCPAMS related to events and their participants.

CATEGORIES OF INDIVIDUALS COVERED BY THE SYSTEM:

DoD military and civilian employees, military students, contractors, alumni, and subject matter experts affiliated with the five Regional Centers.

CATEGORIES OF RECORDS IN THE SYSTEM:

Name, citizenship, gender, date and place of birth, work and personal email addresses, work and home addresses, work and home telephone numbers, cell phone numbers, spouse name, marital status, full face photograph and other physical descriptions, education, employment and military information, emergency contact, visa numbers, control numbers and language capabilities.

RECORD SOURCE CATEGORIES:

The individual.

ROUTINE USES OF RECORDS MAINTAINED IN THE SYSTEM, INCLUDING CATEGORIES OF USERS AND PURPOSES OF SUCH USES:

In addition to those disclosures generally permitted under 5 U.S.C. 552a(b) of the Privacy Act of 1974, as amended, the records contained herein may specifically be disclosed outside the DoD as a routine use pursuant to 5 U.S.C. 552a(b)(3):

a. To contractors, grantees, experts, consultants, students, and others performing or working on a contract, service, grant, cooperative agreement, or other assignment for the DoD when necessary to accomplish an agency function related to this system of records.

b. To the appropriate Federal, State, local, territorial, tribal, foreign, or international law enforcement authority or other appropriate entity where a record, either alone or in conjunction with other information, indicates a violation or potential violation of law, whether criminal, civil, or regulatory in nature.

c. To any component of the Department of Justice for the purpose of representing the DoD, or its components, officers, employees, or members in pending or potential litigation to which the record is pertinent.

d. In an appropriate proceeding before a court, grand jury, or administrative or adjudicative body or official, when the DoD or other Agency representing the DoD determines that the records are relevant and necessary to the proceeding; or in an appropriate proceeding before an administrative or adjudicative body when the adjudicator determines the records to be relevant to the proceeding.

e. To the National Archives and Records Administration for the purpose of records management inspections conducted under the authority of 44 U.S.C. 2904 and 2906.

f. To a Member of Congress or staff acting upon the Member's behalf when the Member or staff requests the information on behalf of, and at the request of, the individual who is the subject of the record.

g. To appropriate agencies, entities, and persons when (1) the DoD suspects or has confirmed that there has been a breach of the system of records; (2) the DoD has determined that as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

h. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

POLICIES AND PRACTICES FOR STORAGE OF RECORDS:

Records are maintained in paper and electronic storage media, in accordance with the safeguards mentioned below.

POLICIES AND PRACTICES FOR RETRIEVAL OF RECORDS:

The records are retrieved by the individual's name.

POLICIES AND PRACTICES FOR RETENTION AND DISPOSAL OF RECORDS:

Records are cut off on closure of study or event and destroyed 25 years after cut off.

ADMINISTRATIVE, TECHNICAL, AND PHYSICAL SAFEGUARDS:

Paper records are maintained in controlled areas accessible only to authorized personnel. Access to the electronic data is limited to authorized users and requires Common Access Card and is available only through systems security software inherent to the operating system and application, and all access is controlled by authentication methods to validate the approved users. Data transmission is encrypted. The information is also maintained in secured information systems which are located in controlled access facilities, guarded 24 hours a day, and seven days a week.

RECORD ACCESS PROCEDURES:

Individuals seeking access to records about themselves contained in this system should address written inquiries to the Office of the Secretary of Defense/Joint Staff Freedom of Information Act Requester Service Center, 1155 Defense Pentagon, Washington, DC 20301-1155.

Signed, written requests should include the full name, current address and telephone number, and the name and number of this system of records notice.

In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The OSD rules for accessing records, for contesting contents and appealing initial agency determinations are published in OSD Administrative Instruction 81; 32 CFR part 311; or may be obtained from the system manager. The current OSD and Joint Staff Privacy Program rule in 32 CFR part 311 is applicable until finalization of the proposed DoD Privacy Program rule, 32 CFR part 310. Repeal of individual DoD Component Privacy rules, including part 311, will be published in the Federal Register after part 310 is effective.

NOTIFICATION PROCEDURES:

Individuals seeking to determine whether information about themselves is contained in this system of records should address written inquiries to Regional Center Persons/Activity Management Program Manager, Defense Security Cooperation Agency, ATTN: STR/TNG—RCPAMS, Program Manager, 201 12th Street South, Suite 203, Arlington, VA 22202-4306.

Signed, written requests should include the full name, current address and telephone number, and the name and number of this system of records notice.

In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

EXEMPTIONS PROMULGATED FOR THE SYSTEM:

None.

HISTORY:

June 13, 2016, 81 FR 38148; January 28, 2013, 78 FR 5781.

[FR Doc. 2018-27455 Filed 12-18-18; 8:45 am]

BILLING CODE 5001-06-P